DEPARTMENT OF TRANSPORTATION

Federal Aviation Administration

14 CFR Part 39

[Docket No. FAA-2011-0360; Directorate Identifier 2010-CE-061-AD; Amendment 39-17023; AD 2012-08-06]

RIN 2120-AA64

Airworthiness Directives; Univair Aircraft Corporation Airplanes

AGENCY: Federal Aviation Administration (FAA), DOT.

ACTION: Final rule.

SUMMARY: We are superseding an existing airworthiness directive (AD) for certain Univair Aircraft Corporation Models (ERCO) 415-C, 415-CD, 415-D, E, G; (Forney) F-1 and F-1A; (Alon) A-2 and A2-A; and (Mooney) M10 airplanes. That AD currently requires an inspection of the aileron balance assembly and ailerons for cracks and excessive looseness of associated parts with the required repair or replacement of defective parts as necessary. This new AD would add airplanes to the Applicability section; require inspections of the ailerons, aileron balance assembly, and aileron rigging for looseness or wear, require repair or replacement of parts as necessary; and require a report of the inspection results. This new AD was prompted by a report of a Univair Aircraft Corporation Model ERCO 415-D Ercoupe that crashed after an in-flight breakup due to possible aileron flutter. We are issuing this AD to correct the unsafe condition on these products.

DATES: This AD is effective October 3, 2012.

The Director of the Federal Register approved the incorporation by reference of certain publications listed in the AD as of October 3, 2012.

ADDRESSES: For service information identified in this AD, contact Univair Aircraft Corporation, 2500 Himalaya Road, Aurora, Colorado 80011; telephone: (303) 375-8882, fax: (303) 375-8888; Internet: http://univairparts.com. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Roger Caldwell, Aerospace Engineer, FAA, Denver Aircraft Certification Office, 26805 East 68th Ave., Room 214, Denver, Colorado 80249-6361; telephone: (303) 342-1086; fax: (303) 342-1088; email: roger.caldwell@faa.gov.

SUPPLEMENTARY INFORMATION:

Discussion

We issued a notice of proposed rulemaking (NPRM) to amend 14 CFR part 39 to supersede AD 52-02-02 (21 FR 9447, December 4, 1956). That AD applies to the specified products. The NPRM published in the Federal Register on April 14, 2011 (76 FR 20894, April 14, 2011). That NPRM proposed to add airplanes to the Applicability section; require inspections of the ailerons, aileron balance assembly, and aileron rigging for looseness or wear; repair or replacement of parts as necessary; and require a report of the inspection results.

Comments

We gave the public the opportunity to participate in developing this AD. The following presents the comments received on the proposal (76 FR 20894, April 14, 2011) and the FAA's response to each comment.

Request To Withdraw NPRM or Change the Inspection Interval

William R. Bayne and Hartmut Beil stated that the service bulletin and/or the manufacturer's existing recommendations, such as lubricating control rod ends at 300 hour intervals, are adequate, and the existing AD 52-02-02 (21 FR 9447, December 4, 1956) is sufficient. They stated that the number of in-flight breakups do not identify a failure of the flight control system and do not justify the need for AD action. They also stated the inspection interval should be 300 hours instead of 100 hours to match the existing recommendations, and the proposed AD puts a financial burden on owners with little or no gain for safety.

We disagree with these comments. This AD will add airplanes to the Applicability section that were not included in AD 52-02-02 (21 FR 9447, December 4, 1956). Also, the flight control free play limits can vary or be out of tolerance for many more reasons than not doing the 300-hour lubrication requirement. Also, varying field reports indicated that the majority of flight control systems are not in tolerance. In addition, Ercoupe Service Memorandum No. 57, Revision A, dated September 1, 2008, recommends free play inspection every 100 hours.

Request To Allow for Credit for the Calibration of the Airspeed Indicator

Linda Abrams requested we change the calibration of the airspeed indicator (ASI) requirement, paragraph (g)(8) of the proposed AD (76 FR 20894, April 14, 2011), to allow for “unless already done” credit since that applies to the other inspection requirements, and it would impose a financial burden on owners and operators.

We agree. “Unless already done” credit will be applied for the ASI calibration requirement in paragraph (g)(8) of this AD as all other “unless already done” credit is being applied by reference to the Compliance section, paragraph (f) of this AD.

Request To Reference Mooney M-10 Service and Maintenance Manual

James E. Dyer of Univair requested the Mooney M-10 service and maintenance requirements be addressed by separate applicable service information since the Ercoupe Service Memorandum No. 57 and 35A, both Revisions A, both dated September 1, 2008, are not applicable to the Mooney M-10.

We agree. We revised the “Required Actions” section paragraph (g) of this AD by adding text that requires inspecting and taking corrective action on the Mooney M-10 flight control system per pages 5-1 through 5-4 of the Mooney M-10 Service and Maintenance Manual, Serial Numbers 690001 through 690011 and 700001 and on, Revision A, dated September 1, 2008. We also added Ercoupe Service Memorandum No. 35A, Revision A, dated September 1, 2008, to the applicable service information, and added an area to the reporting requirement pertaining to the use of Ercoupe Service Memorandum No. 35A, Revision A, dated September 1, 2008.

Request To Reference Ercoupe Service Bulletin No. 20 for the Aileron Balance Assembly Requirements

James E. Dyer commented that Ercoupe Service Memorandum No. 20, Revision A, dated September 1, 2008, is only referenced in the one-time reporting requirement of the “Required Actions” section, paragraph (g) of the proposed AD and not referenced as a procedural requirement for the inspection of ailerons with counter weights.

We agree. We have revised this AD by adding Ercoupe Service Memorandum No. 20, Revision A, dated September 1, 2008, as a reference in the “Required Actions” section, paragraph (g), of this AD pertaining to airplanes with the aileron balance assembly (ERCO part number (P/N) 415-16009).

Request To Require the Airspeed Indicator Calibration To Be Done at an Instrument Repair Facility

James E. Dyer, Linda T. Abrams, and Jack Chmiel commented that the calibration test for the ASI should be completed by an authorized instrument repair facility because Advisory Circular AC 23-8B, Appendix 9 contains technical requirements that exceed the ability of most owner/operators, repair stations, or Airframe & Powerplant (A&P) mechanics on this class of airplane.

We partially agree. We have revised the “Required Actions” section, paragraph (g)(8) of this AD to require an FAA-authorized instrument repair facility to calibrate the ASI if the bench test method is used. However we will allow an exception for global positioning system (GPS) or other owner/operator FAA-approved methods of calibrating the ASI following the instructions in FAA Advisory Circular AC 23-8C, Appendix 9, dated November 16, 2011. These procedures will be repetitively required every 4 years and any time maintenance affects the system integrity.

Request To Make the Reporting Requirement a One-Time Action

Jack Chmiel, William R. Bayne, and an anonymous commenter stated they did not think the Inspection Report should be submitted after each inspection interval. They didn't feel the referenced report was clearly defined in the NPRM as a one-time report that is only required at the time of initial compliance with the AD.

We agree. We have revised this AD to clearly state the reporting requirement is a one-time action submitted after the initial inspection.

Request To Update the P/N “Costs of Compliance”

James E. Dyer commented that there has been a revision to a P/N listed in the “Costs of Compliance” section of this AD, and we should change the P/N.

We agree. We revised this AD to reflect the aileron hinge and rudder hinge P/N from 415-24003 to F24003 in the “Costs of Compliance” section.

Request To Limit the Aileron Free Play

Vince Hammons and Jack Chmiel commented that the aileron free play should be limited to ⅛ inch to 5/16 inch, which they believe would be easily attainable and would remove any confusion on allowable amount of free play.

We do not agree. Ercoupe Service Memorandums No. 56 and No. 57, both Revisions A, both dated September 1, 2008, state that 7/16 inch is allowable for ailerons with counter weights, and 5/16 inch is allowable for ailerons without counter weights per the original design. Anything less could be unattainable due to different wear patterns and usage between airplane units and the services times and duration of the type design for the fleet since inception.

Conclusion

We reviewed the relevant data, considered the comments received, and determined that air safety and the public interest require adopting the AD with the changes described previously and minor editorial changes. We have determined that these minor changes:

• Are consistent with the intent that was proposed in the NPRM (76 FR 20894, April 14, 2011) for correcting the unsafe condition; and

• Do not add any additional burden upon the public than was already proposed in the NPRM (76 FR 20894, April 14, 2011).

We also determined that these changes will not increase the economic burden on any operator or increase the scope of the AD.

Costs of Compliance

We estimate that this AD affects 2,600 airplanes of U.S. registry.

We estimate the following costs to comply with this AD:

Estimated Retained Costs
Action | Labor cost | Parts cost | Cost per product | Cost on U.S. operators
Inspect the ailerons for cracks in the support structure and skin | 4 work-hours × $85 per hour = $340 | Not applicable | $340 | $884,000

Estimated New Costs
Action | Labor cost | Parts cost | Cost per product | Cost on U.S. operators
Remove load from nose wheel and adjust rigging | .5 work-hour × $85 per hour = $42.50 | Not applicable | $42.50 | $110,500

We estimate the following costs to do any necessary replacements for the flight control system that would be required based on the results of the inspection. We have no way of determining the number of airplanes that may need this replacement:

On-Condition Costs
Action | Labor cost | Parts cost | Cost per product
Install aileron hinge | 2 work-hours × $85 per hour = $170 | Aileron Hinge Part Number (P/N) F24003 $25 | $195
Install elevator hinge | 2 work-hours × $85 per hour = $170 | Elevator Hinge P/N 415-22007 $40 | 210
Install elevator hinge | 2 work-hours × $85 per hour = $170 | Elevator Hinge P/N 415-22008 $83 | 253
Install rudder hinge | 2 work-hours × $85 per hour = $170 | Rudder Hinge P/N F24003 $25 | 195
Install aileron rod-end bearing | 2 work-hours × $85 per hour = $170 | Aileron Rod-End Bearing P/N GMM-3M-670 $20 | 190

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 52-02-02, (21 FR 9447, December 4, 1956), and adding the following new AD:

2012-08-06 Univair Aircraft Corporation: Amendment 39-17023; Docket No. FAA-2011-0360; Directorate Identifier 2010-CE-061-AD.

(a) Effective Date

This airworthiness directive (AD) is effective October 3, 2012.

(b) Affected ADs

This AD supersedes AD 52-02-02 (21 FR 9447, December 4, 1956).

(c) Applicability

This AD applies to Univair Aircraft Corporation Models (ERCO) 415-C, 415-CD, 415-D, E, G; (Forney) F-1 and F-1A; (Alon) A-2 and A2-A; and (Mooney) M10 airplanes, all serial numbers, that are certificated in any category.

(d) Subject

Joint Aircraft System Component (JASC)/Air Transport Association (ATA) of America Code 27, Flight Controls.

(e) Unsafe Condition

This AD was prompted by a Univair Aircraft Corporation Model ERCO 415-D Ercoupe that crashed after an in-flight breakup due to possible aileron flutter. We are issuing this AD to correct the unsafe condition on these products.

(f) Compliance

Comply with this AD within the compliance times specified, unless already done.

(g) Required Actions

Table 1 of Paragraph (g)—Required Actions
What must be done? | When must it be done? | How it must be done
(1) For all airplanes: Inspect the ailerons for cracks in the support structure and skin | Within the next 25 hours time-in-service (TIS) after October 3, 2012 (the effective date of this AD) or within 3 months after October 3, 2012 (the effective date of this AD), whichever occurs first. Repetitively thereafter inspect at intervals not to exceed 100 hours TIS or 12 months, whichever occurs first | For all airplanes except the Mooney M-10, follow Ercoupe Service Memorandums No. 56 and 35A, both Revisions A, both dated September 1, 2008. For the Mooney M-10 follow the Mooney M-10 Service and Maintenance Manual, Serial Numbers 690001 through 690011 and 700001 and on, Revision A, dated September 1, 2008, Section V, pages 5-1 through 5-4.
(2) For airplanes with the aileron balance assembly (ERCO Part Number (P/N) 415-16009) installed: Inspect the assembly for cracks in the support structure and skin | Within the next 25 hours TIS after October 3, 2012 (the effective date of this AD) or within 3 months after October 3, 2012 (the effective date of this AD), whichever occurs first. Repetitively thereafter inspect at intervals not to exceed 100 hours TIS or 12 months, whichever occurs first | Follow Ercoupe Service Memorandums No. 20, 56, and 57, all Revisions A, all dated September 1, 2008; and for Models E and (Forney) F-1 and F-1A, follow Ercoupe Service Memorandum No. 35A, Revision A, dated September 1, 2008.
(3) For all airplanes: If any cracking is found during the inspections required in paragraphs (g)(1) and/or (g)(2) of this AD, repair or replace cracked parts | Before further flight after the inspection where the cracking was found | Follow Ercoupe Service Memorandums No. 20, 56, and 57, all Revisions A, all dated September 1, 2008; and for Models E and (Forney) F-1 and F-1A, follow Ercoupe Service Memorandum No. 35A, Revision A, dated September 1, 2008.
(4) For airplanes with the aileron balance assembly (ERCO P/N 415-16009) installed: Inspect the four No. 6-32 screws that attach the balance weight support to the aileron for looseness and damage | Within the next 25 hours TIS after October 3, 2012 (the effective date of this AD) or within 3 months after October 3, 2012 (the effective date of this AD), whichever occurs first. Repetitively thereafter inspect at intervals not to exceed 100 hours TIS or 12 months, whichever occurs first | Follow Ercoupe Service Memorandums No. 20, 56, and 57, all Revisions A, all dated September 1, 2008; and for Models E and (Forney) F-1 and F-1A, follow Ercoupe Service Memorandum No. 35A, Revision A, dated September 1, 2008.
(5) For all airplanes: If any looseness or damage is found during the inspection of the screws required in paragraph (g)(4) of this AD, replace the screws with AN 526-632 screws, making sure to not overstress during tightening | Before further flight after the inspection where the looseness or damage was found | Follow Ercoupe Service Memorandums No. 20, 56, and 57, all Revisions A, all dated September 1, 2008; and for Models E and (Forney) F-1 and F-1A, follow Ercoupe Service Memorandum No. 35A, Revision A, dated September 1, 2008.
(6) For airplanes with the aileron balance assembly (ERCO P/N 415-16009) installed: Inspect the aileron hinges and aileron control system for excessive looseness or wear in hinge pins or bearings. If, with one aileron blocked in the neutral position, the total play of the other aileron, measured at the trailing edge, exceeds 7/16-inch, inspect all the joints and bearings and tighten or replace those which are loose | Within the next 25 hours TIS after October 3, 2012 (the effective date of this AD) or within 3 months after October 3, 2012 (the effective date of this AD), whichever occurs first. Repetitively thereafter inspect at intervals not to exceed 100 hours TIS or 12 months, whichever occurs first | Follow Ercoupe Service Memorandums No. 20, 56, and 57, all Revisions A, all dated September 1, 2008; and for Models E and (Forney) F-1 and F-1A, follow Ercoupe Service Memorandum No. 35A, Revision A, dated September 1, 2008.
(7) For airplanes that do not have the aileron balance assembly (ERCO P/N 415-16009) installed: Inspect the aileron hinges and aileron control system for excessive looseness or wear in hinge pins or bearings. If, with one aileron blocked in the neutral position the total play of the other aileron, measured at the trailing edge, exceeds 5/16-inch, inspect all the joints and bearings and tighten those which are loose | Within the next 25 hours TIS after October 3, 2012 (the effective date of this AD) or within 3 months after October 3, 2012 (the effective date of this AD), whichever occurs first | Follow Ercoupe Service Memorandums No. 20, 56, and 57, all Revisions A, all dated September 1, 2008; and for Models E and (Forney) F-1 and F-1A, follow Ercoupe Service Memorandum No. 35A, Revision A, dated September 1, 2008.
(8) For all airplanes: Determine that the air-speed instrument is correctly calibrated and distinctly marked in accordance with the operating limitations | Within the next 25 hours TIS after October 3, 2012 (the effective date of this AD) or within 3 months after October 3, 2012 (the effective date of this AD), whichever occurs first, and repetitively thereafter every four years, and any time maintenance occurs that affects the system integrity | For airspeed instrument calibration by bench test method, you must use an FAA-authorized instrument repair facility. For airspeed calibration by global positioning system (GPS) or other owner/operator FAA-approved method, you may follow the instructions in Advisory Circular (AC) AC 23-8C, Appendix 9, dated November 16, 2011. AC 23-8C can be found at: http://www.airweb.faa.gov/Regulatory_and_ Guidance_Library/rgAdvisoryCircular.nsf/0/bc4325ad70e84ff58625795d00635d7c/$FILE/23-8C.pdf.
(9) For all airplanes except the Mooney M-10: Remove load from nose wheel and adjust rigging | Within the next 25 hours TIS after October 3, 2012 (the effective date of this AD) or within 3 months after October 3, 2012 (the effective date of this AD), whichever occurs first. Repetitively thereafter adjust at intervals not to exceed 100 hours TIS or 12 months, whichever occurs first | Follow Ercoupe Service Memorandum No. 35, Revised January 6, 2006, and/or Ercoupe Service Memorandum 35A, Revision A, dated September 1, 2008.
(10) For all airplanes: Submit a one-time report from the initial inspections and/or actions required in paragraphs (g)(1), (g)(2), (g)(4), (g)(6), (g)(7), (g)(8), and (g)(9) of this AD | Within 30 days after the initial inspections and/or actions required in paragraphs (g)(1), (g)(2), (g)(4), (g)(6), (g)(7), (g)(8), and (g)(9) of this AD, or 30 days after October 3, 2012 (the effective date of this AD) if you are using the “unless already done” credit | Use the reporting form found in Figure 1 of paragraph (g)(10) of this AD and send the report to the following offices: Roger A. Caldwell, Aerospace Engineer, FAA, ANM-100D, Denver Aircraft Certification Office (ACO), 26805 East 68th Avenue, Room 214, Denver, Colorado 80249-6361; and Univair Aircraft Corporation, 2500 Himalaya Road, Aurora, Colorado 80011.

BILLING CODE 4910-13-P

BILLING CODE 4910-13-C

(h) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(i) Alternative Methods of Compliance (AMOCs)

(1) The Manager, Denver ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your Principal Maintenance Inspector or Principal Avionics Inspector, as appropriate, or lacking a principal inspector, your local Flight Standards District Office.

(3) AMOCs approved for AD 52-02-02 (21 FR 9447, December 4, 1956) are approved as AMOCs for this AD.

(j) Related Information

For more information about this AD, contact Roger Caldwell, Aerospace Engineer, FAA, Denver ACO, 26805 East 68th Ave., Room 214, Denver, Colorado 80249-6361; telephone: (303) 342-1086; fax: (303) 342-1088; email: roger.caldwell@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Ercoupe Service Memorandum No. 56, Revision A, dated September 1, 2008;

(ii) Ercoupe Service Memorandum No. 57, Revision A, dated September 1, 2008;

(iii) Ercoupe Service Memorandum No. 35, revised January 6, 2006;

(iv) Ercoupe Service Memorandum No. 35A, Revision A, dated September 1, 2008;

(v) Ercoupe Service Memorandum No. 20, Revision A, dated September 1, 2008; and

(vi) Mooney M-10 Service and Maintenance Manual, Serial Numbers 690001 through 690011 and 700001 and on, Section V, pages 5-1 through 5-4, Revision A, dated September 1, 2008.

Note for paragraph (k)(2)(i), (k)(2)(ii), (k)(2)(iv), (k)(2)(v), and (k)(2)(vi) of this AD: The only change in Revision A of the above listed service information was to add dates to the previously undated service information.

(3) For Univair Aircraft Corporation service information identified in this AD, contact Univair Aircraft Corporation, 2500 Himalaya Road, Aurora, Colorado 80011; telephone: (303) 375-8882, facsimile: (303) 375-8888; Internet: http://univairparts.com.

(4) You may view this service information at FAA, Small Airplane Directorate, 901 Locust St., Kansas City, MO 64106. For information on the availability of this material at the FAA, call (816) 329-4148.

(5) You may view this service information that is incorporated by reference at the National Archives and Records Administration (NARA). For information on the availability of this material at NARA, call 202-741-6030, or go to: http://www.archives.gov/federal-register/cfr/index.html.

Issued in Kansas City, Missouri, on August 16, 2012.
Earl Lawrence,
Manager, Small Airplane Directorate, Aircraft Certification Service.

[FR Doc. 2012-21018 Filed 8-28-12; 8:45 am]

BILLING CODE 4910-13-P